DEPARTMENT OF TRANSPORTATION

Federal Aviation Administration

Notice of Intent To Rule on Application To Impose and Use the Revenue From a Passenger Facility charge (PFC) at Alpena County Regional Airport, Alpena, Michigan

AGENCY: Federal Aviation Administration (FAA), DOT.

ACTION: Notice of intent to rule on application.

SUMMARY: The FAA proposes to rule and invites public comment on the application to impose and use the revenue from a PFC at Alpena County Regional Airport under the provisions of the Aviation Safety and Capacity Expansion Act of 1990 (Title IX of the Omnibus Budget Reconciliation Act of 1990) (Public Law 101-508) and Part 158 of the Federal Aviation Regulations (14 CFR Part 158).

DATES: Comments must be received on or before April 18, 2001.

ADDRESSES: Comments on this application may be mailed or delivered in triplicate to the FAA at the following address: Federal Aviation Administration, Detroit Airports District Office Willow Run Airport, East, 8820 Beck Road, Belleville, Michigan 48111.

In addition, one copy of any comments submitted to the FAA must be mailed or delivered to Mr. Bryan K. Holland of the Alpena County Regional Airport at the following address: Alpena County Regional Airport, 1617 Airport Road, Alpena, Michigan 49707.

Air carriers and foreign air carriers may submit copies of written comments previously provided to the Alpena County Regional Airport under section 158.23 of part 158.

FOR FURTHER INFORMATION CONTACT: Mr. Jon Gilbert, Program Manager, Federal Aviation Administration, Detroit Airports District Office, Willow Run Airport, East, 8820 Beck Road, Belleville, Michigan 48111 (734-487-7281). The application may be reviewed in person at this same location.

SUPPLEMENTARY INFORMATION: The FAA proposes to rule and invites public comment on the application to impose and use the revenue from a PFC at Alpena County Regional Airport under the provisions of the Aviation Safety and Capacity Expansion Act of 1990 (Title IX of the Omnibus Budget Reconciliation Act of 1990) (Public Law 101-508) and Part 158 of the Federal Aviation Regulations (14 CFR part 158).

On February 5, 2001, the FAA determined that the application to impose and use the revenue from a PFC submitted by Alpena County Regional Airport was substantially complete within the requirements of section 158.25 of Part 1568. The FAA will approve or disapprove the application, in whole or in part, no later than May 16, 2001.

The following is a brief overview of the application.

PFC Application No.: 01-01-C-00-APN.

Level of the proposed PFC: $3.00.

Proposed charge effective date: May 1, 2001.

Proposed charge expiration date: August 1, 2009.

Total estimated PFC revenue: $268,480.00.

Brief description of proposed projects: Taxiway holdline signs and radio control; runway 19 precision approach path indicator and runway end identifier lights; groove and mark runway 01/19; rehabilitate runway 07/25 and medium intensity lighting; field lighting/tower electrical modifications; runway/taxiway signage and marking; rehabilitate and expand terminal apron; deer control fencing; rehabilitate high intensity runway lights (HIRL) for runway 01/19 and taxiway “D” (engineering only); rehabilitate HIRL runway 01/19 and taxiway lights; reconstruct taxiway “D”; surface runway 01/19, overlay taxiways “H” and “C”, and aprons (engineering only); overlay runway 13/31, taxiway “H”, surface runway 01/19.

Class or classes of air carriers which the public agency has requested not be required to collect PFCs: None.

Any person may inspect the application in person at the FAA office listed above under FOR FURTHER INFORMATION CONTACT.

In addition, any person may upon request, inspect the application, notice, and other documents germane to the application in person at the Alpena County Regional Airport.

Dated: March 6, 2001.
Benito De Leon,
Manager, Planning/Programming Branch, Airports Division, Great Lakes Region.

[FR Doc. 01-6696 Filed 3-16-01; 8:45 am]

BILLING CODE 4910-13-M